DEPARTMENT OF TRANSPORTATION

Federal Aviation Administration

14 CFR Part 39

[Docket No. FAA-2024-0999; Project Identifier MCAI-2023-01262-T; Amendment 39-22780; AD 2024-13-06]

RIN 2120-AA64

Airworthiness Directives; Dassault Aviation Airplanes

AGENCY: Federal Aviation Administration (FAA), DOT.

ACTION: Final rule.

SUMMARY: The FAA is adopting a new airworthiness directive (AD) for all Dassault Aviation Model FALCON 7X airplanes. This AD was prompted by a determination that certain left-hand (LH) and right-hand (RH) pylon bleed air leak detectors (BALDs) might be defective, due to incorrect manufacturing processes and incomplete acceptance test procedures. This AD requires a one-time operational check of affected parts and, depending on findings, accomplishment of applicable corrective action, and limits the installation of affected parts under certain conditions, as specified in a European Union Aviation Safety Agency (EASA) AD, which is incorporated by reference. The FAA is issuing this AD to address the unsafe condition on these products.

DATES: This AD is effective September 24, 2024.

The Director of the Federal Register approved the incorporation by reference of a certain publication listed in this AD as of September 24, 2024.

ADDRESSES:

AD Docket: You may examine the AD docket at regulations.gov under Docket No. FAA-2024-0999; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material, contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2024-0999.

• You may view this material at the FAA, Airworthiness Products Section, Operational Safety Branch, 2200 South 216th St., Des Moines, WA. For information on the availability of this material at the FAA, call 206-231-3195.

FOR FURTHER INFORMATION CONTACT: Tom Rodriguez, Aviation Safety Engineer, FAA, 1600 Stewart Avenue, Suite 410, Westbury, NY 11590; phone: 206-231-3226; email: tom.rodriguez@faa.gov.

SUPPLEMENTARY INFORMATION:

Background

The FAA issued a notice of proposed rulemaking (NPRM) to amend 14 CFR part 39 by adding an AD that would apply to all Dassault Aviation Model FALCON 7X airplanes. The NPRM published in the Federal Register on April 10, 2024 (89 FR 25189). The NPRM was prompted by AD 2023-0216, dated December 18, 2023, issued by EASA, which is the Technical Agent for the Member States of the European Union (EASA AD 2023-0216) (also referred to as the MCAI). The MCAI states that certain pylon BALDs might be defective, due to incorrect manufacturing processes and incomplete acceptance test procedures. The presence of defective LH and RH pylon BALDs could lead to undetected pylon overheat, possibly resulting in structural degradation or uncontrolled fire.

In the NPRM, the FAA proposed to require a one-time operational check of affected parts and, depending on findings, accomplishment of applicable corrective action, and to limit the installation of affected parts under certain conditions, as specified in EASA AD 2023-0216. The FAA is issuing this AD to address the possible presence of defective LH and RH pylon BALDs. The unsafe condition, if not addressed, could result in undetected pylon overheat, possibly resulting in structural degradation or uncontrolled fire.

You may examine the MCAI in the AD docket at regulations.gov under Docket No. FAA-2024-0999.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Material Under 1 CFR Part 51

EASA AD 2023-0216 specifies procedures for a one-time operational check of affected parts, including an inspection of the routing of the rear and front BALD loops for interference with the aircraft structure between two grommets, an inspection of the BALD loops for overheating and burn marks, an inspection of the area surrounding each test point for possible interference between the hot air gun and the temperature-sensitive piping and harnesses, a test of the BALD loops with a wide blower nozzle for a certain crew alerting system (CAS) message, and a test of the BALD loops with a narrow blower nozzle for a certain CAS message; and, depending on findings, accomplishment of applicable corrective action including replacing defective BALD loops. EASA AD 2023-0216 also provides conditions for installation of affected RH and LH pylon BALDs.

This material is reasonably available because the interested parties have access to it through their normal course of business or by the means identified in the ADDRESSES section.

Costs of Compliance

The FAA estimates that this AD affects 150 airplanes of U.S. registry. The FAA estimates the following costs to comply with this AD:

Estimated Costs for Required Actions
Labor cost | Parts cost | Cost per product | Cost on U.S. operators
10 work-hours × $85 per hour = $850 | $602 | $1,452 | $217,800

The FAA estimates the following costs to do any necessary on-condition action that would be required based on the results of any required actions. The FAA has no way of determining the number of aircraft that might need this on-condition action:

Estimated Costs of On-Condition Actions
Labor cost | Parts cost | Cost per product
10 work-hours × $85 per hour = $850 | $1,661 | $2,511

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-13-06 Dassault Aviation: Amendment 39-22780; Docket No. FAA-2024-0999; Project Identifier MCAI-2023-01262-T.

(a) Effective Date

This airworthiness directive (AD) is effective September 24, 2024.

(b) Affected ADs

None.

(c) Applicability

This AD applies to all Dassault Aviation Model FALCON 7X airplanes, certificated in any category.

(d) Subject

Air Transport Association (ATA) of America Code 36, Pneumatic.

(e) Unsafe Condition

This AD was prompted by a determination that certain left-hand (LH) and right-hand (RH) pylon bleed air leak detectors (BALDs) might be defective, due to incorrect manufacturing processes and incomplete acceptance test procedures. The FAA is issuing this AD to address the possible presence of defective LH and RH pylon BALDs. The unsafe condition, if not addressed, could result in undetected pylon overheat, possibly resulting in structural degradation or uncontrolled fire.

(f) Compliance

Comply with this AD within the compliance times specified, unless already done.

(g) Requirements

Except as specified in paragraph (h) of this AD: Comply with all required actions and compliance times specified in, and in accordance with, European Union Aviation Safety Agency (EASA) AD 2023-0216, dated December 18, 2023 (EASA AD 2023-0216).

(h) Exceptions to EASA AD 2023-0216

(1) Where EASA AD 2023-0216 refers to its effective date, this AD requires using the effective date of this AD.

(2) Where the group definitions in EASA AD 2023-0216 specify “the SB,” this AD requires replacing that text with “Dassault Service Bulletin 7X-572, Erratum, dated October 24, 2023.”

(3) Where the service information referenced in EASA AD 2023-0216 refers to “suspicious traces,” this AD requires replacing that text with “burn marks or signs of overheating.”

(4) Where EASA AD 2023-0216 refers to “any discrepancy,” this AD requires replacing that text with “any routing interference, burn marks, signs of overheating, or any specified crew alerting system (CAS) message that does not show on a Primary Display Unit (PDU) during testing.”

(5) This AD does not adopt the “Remarks” section of EASA AD 2023-0216.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Dassault Aviation's EASA Design Organization Approval (DOA). If approved by the DOA, the approval must include the DOA-authorized signature.

(j) Additional Information

For more information about this AD, contact Tom Rodriguez, Aviation Safety Engineer, FAA, 1600 Stewart Avenue, Suite 410, Westbury, NY 11590; phone: 206-231-3226; email: tom.rodriguez@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2023-0216, dated December 18, 2023.

(ii) [Reserved]

(3) For EASA AD 2023-0216, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on July 1, 2024.
Caitlin Locke,
Director, Compliance & Airworthiness Division, Aircraft Certification Service.

[FR Doc. 2024-18626 Filed 8-19-24; 8:45 am]

BILLING CODE 4910-13-P